GENERAL SERVICES ADMINISTRATION

[Notice-MV-2017-04; Docket No. 2017-0002; Sequence 19]

Public Availability of General Services Administration Fiscal Year 2016 Service Contract Inventory

AGENCY: Office of Governmentwide Policy; General Services Administration, (GSA).

ACTION: Notice of public availability of GSA Fiscal Year 2016 Service Contract Inventories.

SUMMARY: In accordance with The Fiscal Year (FY) 2010 Consolidated Appropriations Act, GSA is publishing this notice to advise the public of the availability of the FY 2016 Service Contract Inventories.

DATES: October 31, 2017.

FOR FURTHER INFORMATION CONTACT: Questions regarding the Service Contract Inventory should be directed to Mr. James Tsujimoto in the Office of Acquisition Policy at 202-206-3585 or james.tsujimoto@gsa.gov.

SUPPLEMENTARY INFORMATION: In accordance with section 743 of Division C of the FY 2010 Consolidated Appropriations Act (Pub. L. 111-117), GSA is publishing this notice to advise the public of the availability of the FY 2016 Service Contract Inventories. These inventories are available at https://www.acquisition.gov/service-contract-inventory. The inventories provide information on governmentwide service contract actions over $25,000 that were made in FY 2016. The service contract inventory information located on acquisition.gov can be filtered by agency and component to show how contracted resources are distributed throughout any agency. The inventory has been developed in accordance with the guidance issued on December 19, 2011, by the Office of Management and Budget's Office of Federal Procurement Policy (OFPP). OFPP's guidance is available at: https://obamawhitehouse.archives.gov/omb/procurement-service-contract-inventories. GSA has posted its FY 2015 inventory analysis and its planned analysis of FY 2016 actions at the following location: http://www.gsa.gov/gsasci.

Jeffrey A. Koses,
Director, Office of Acquisition Policy, Office of Government-wide Policy.

[FR Doc. 2017-23662 Filed 10-30-17; 8:45 am]

BILLING CODE 6820-61-P